ENVIRONMENTAL PROTECTION AGENCY

[EPA-HQ-OPP-2004-0202; FRL-8101-2]

Pentachloronitrobenzene (PCNB) Reregistration Eligibility Decision (RED); Extension of Comment Period

AGENCY: Environmental Protection Agency (EPA).

ACTION: Notice; extension of comment period.

SUMMARY: EPA issued a notice in the Federal Register of August 2, 2006, concerning the availability of the PCNB reregistration eligibility decision (RED) and the opening of the 60-day public comment period on the RED. The original comment period was to close on October 2, 2006. The Agency subsequently issued a notice in the Federal Register of September 29, 2006, extending the comment period to November 1, 2006. The Agency is now extending the comment period for an additional interval, to December 4, 2006.

DATES: Comments, identified by docket identification (ID) number EPA-HQ-OPP-2004-0202 must be received on or before December 4, 2006.

ADDRESSES: Follow the detailed instructions for submitting comments as provided in the SUPPLEMENTARY INFORMATION of the August 2, 2006 FR Notice. In addition, comments may be submitted through the Federal Document Management System Portal: http://www.regulations.gov. Follow the on-line instructions for submitting comments.

FOR FURTHER INFORMATION CONTACT: Jill Bloom, Special Review and Reregistration Division (7508P), Office of Pesticide Programs, Environmental Protection Agency, 1200 Pennsylvania Ave., NW., Washington, DC 20460-0001; telephone number: (703) 308-8019; e-mail address:bloom.jill@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. How and to Whom Do I Submit Comments?

To submit comments, or access the official public docket, please follow the detailed instructions as provided in Unit I.B. of the SUPPLEMENTARY INFORMATION of the August 2, 2006 Federal Register document. If you have questions, consult the person listed under FOR FURTHER INFORMATION CONTACT.

II. What Action is EPA Taking?

This document extends the public comment period established in the Federal Register of August 2, 2006 (70 FR 43746) (FRL-8066-6) and later extended in the Federal Register of September 29, 2006 (71 FR 57506) (FRL-8096-6). In the first notice, the Agency provided a 60-day comment period for public input on the reregistration decision for PCNB, particularly on the benefits associated with certain minor uses of PCNB. This original comment period was to close on October 2, 2006. EPA then extended the comment period until November 1, 2006, based on requests from a PCNB registrant and the National Potato Council. Both entities had requested that the comment period be extended by 60 days, but the Agency granted an extension of approximately 30 days. The registrant and the National Potato Council subsequently reiterated their requests for the longer extension, and the Agency determined that the longer time period would facilitate comments from potato growers, many of whom will be busy with the potato harvest through November, and provide additional time for technical review by the registrant. The Agency is hereby extending the comment period to December 4, 2006. This new extension brings the total duration of the comment period to four months.

III. What is the Agency's Authority for Taking this Action

Section 4(g)(2) of FIFRA as amended directs that, after submission of all data concerning a pesticide active ingredient, the Administrator shall determine whether pesticides containing such active ingredient are eligible for reregistration. Further provisions are made to allow a public comment period. However, the Administrator may extend the comment period if additional time for comment is requested. In this case, two different public entities have requested additional time to develop comments.

List of Subjects

Environmental protection, Pesticides and pests.

Dated: October 19, 2006.
Debra Edwards,
Director, Special Review and Reregistration Division.

[FR Doc. E6-17861 Filed 10-24-06; 8:45 am]

BILLING CODE 6560-50-S